DEPARTMENT OF COMMERCE

National Oceanic and Atmospheric Administration

[RTID 0648-XD170]

Pacific Whiting; Joint Management Committee; Reopening of Solicitation for Nominations

AGENCY: National Marine Fisheries Service (NMFS), National Oceanic and Atmospheric Administration (NOAA), Commerce.

ACTION: Notice; reopening a call for nominations.

SUMMARY: NMFS published a notice in the Federal Register on June 7, 2023 soliciting nominations for appointments to the Joint Management Committee (JMC) established in the Agreement between the Government of the United States of America and the Government of Canada on Pacific Hake/Whiting (Pacific Whiting Treaty). The nomination period ended on July 7, 2023. This notice reopens the nomination period for one position on the JMC for 15 days.

DATES: Nominations must be received by August 10, 2023.

ADDRESSES: You may submit nominations by the following method:

• Email: frank.lockhart@noaa.gov.

FOR FURTHER INFORMATION CONTACT: Frank Lockhart, (206) 526-6142, or Colin Sayre (206) 526-4656, colin.sayre@noaa.gov.

SUPPLEMENTARY INFORMATION: NMFS published a Federal Register notice on June 7, 2023 (88 FR 37209) to announce a nomination period of 30 days, closing on July 7, 2023. That notice solicited nominations for the United States Advisory Panel (AP) and the Joint Management Committee established under the Pacific Whiting Treaty. Through this announcement, NMFS is reopening nominations for the representative of the commercial whiting sector (16 U.S.C. 7002 (a)(1)) to serve on the JMC. Nominations received during the prior nomination period that closed on July 7, 2023 will be considered, resubmission of nomination packages is not required.

Refer to the Federal Register notice of June 7, 2023 (88 FR 37209) for JMC member responsibilities, nominee qualifications, and the items that are required parts of the nomination package. Additional information on the NOAA website for the Pacific Whiting Treaty, including current committee members, can be found at: https://www.fisheries.noaa.gov/west-coast/laws-and-policies/pacific-hake-whiting-treaty#committees-and-panels.

Authority: 16 U.S.C. 7001 et seq.

Dated: July 20, 2023.
Jennifer M. Wallace,
Acting Director, Office of Sustainable Fisheries, National Marine Fisheries Service.

[FR Doc. 2023-15754 Filed 7-25-23; 8:45 am]

BILLING CODE 3510-22-P